ENVIRONMENTAL PROTECTION AGENCY

[EPA-HQ-OEJECR-2024-0072; FRL-11749-01-OEJECR]

Agency Information Collection Activities; Proposed Information Collection Request; Comment Request; Environmental Justice CPS and G2G Programs: Post-Award Reporting and Public Outreach Information Collections

AGENCY: Environmental Protection Agency (EPA).

ACTION: Notice.

SUMMARY: The Environmental Protection Agency (EPA) is planning to submit an information collection request (ICR), Environmental Justice CPS and G2G Programs: Post-Award Reporting and Public Outreach Information Collections (EPA ICR Number 2807.01, OMB Control Number 2035-NEW) to the Office of Management and Budget (OMB) for review and approval in accordance with the Paperwork Reduction Act. Before doing so, EPA is soliciting public comments on specific aspects of the proposed information collection as described below. This is a request for approval of a new collection. This notice allows for 60 days for public comments.

DATES: Comments must be submitted on or before April 22, 2024.

ADDRESSES: Submit your comments, referencing Docket ID Number EPA-HQ-OEJECR-2024-XXXX, to EPA online using www.regulations.gov (our preferred method), by email to Docket_OMS@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Aarti Iyer, Office of the Chief Financial Officer, Environmental Protection Agency, 1200 Pennsylvania Ave. NW, Washington, DC 20460; email address: iyer.aarti@epa.gov; phone: 202-564-0214.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: The U.S. Environmental Protection Agency (EPA) makes competitive financial assistance awards to support projects that tackle environmental and public health challenges across the country. This is accomplished by working directly with community-based nonprofit organizations (CBOs) and state, local, territorial, and tribal governments that have strong ties to the communities in which they are working. To help get resources and funding to underserved and overburdened communities EPA offers the Environmental Justice Collaborative Problem Solving (EJCPS) and Environmental Justice Government to Government (EJG2G) cooperative agreement programs, which are designed to address multi-statute environmental and/or public health issues. The EJCPS and EJG2G grantees will operate in cooperative agreements with EPA in their efforts to collaborate and partner with other stakeholders to develop solutions that will significantly address environmental and/or public health issue(s) in communities disproportionately burdened by environmental harms and risks. With this Information Collection Request (ICR), EPA seeks authorization to collect information to track progress made by the EJCPS and EJG2G grantees and their partnerships. Collection of this information enables EPA to assess and manage these two programs, which ensures responsible stewardship of public funds; rigorous evidence-based learning and improvement; and transparent accountability to the American public. This ICR also requests authorization for the grantees to collect input and insights from communities who seek to benefit from project services, as well as stakeholders who have valuable experience and expertise in community engagement and empowerment. These information collections will enable the grantees to document local priorities, needs, and norms to ensure that they develop useful and relevant projects and training services. Furthermore, feedback about these services will enable the grantees to conduct self-assessments to identify best practices and areas for improvement.

Form numbers: None.

Respondents/affected entities: Recipients of financial assistance awards from the EJCPS and EJG2G programs; stakeholders; community members.

Respondent's obligation to respond: Mandatory for grant recipients as per reporting requirements included in EPA regulations 2 CFR parts 200 and 1500, and voluntary for public outreach information collections via surveys and focus groups.

Estimated number of respondents: 186 grantees and approximately 7,000 members of the public.

Frequency of response: One work plan, two semi-annual progress reports per year the grant is active; one final report. Variable numbers of surveys and focus groups per year.

Total estimated burden: 24,699 hours per year.

Total estimated cost: $835,759 per year.

Changes in the estimates: This is a new collection; therefore there is no change in burden.

Jacob Burney,
Director, Grants Management Division, Office of Community Support, Office of Environmental Justice and External Civil Rights.

[FR Doc. 2024-03457 Filed 2-20-24; 8:45 am]

BILLING CODE 6560-50-P